DEPARTMENT OF ENERGY

DOE/Advanced Scientific Computing Advisory Committee

AGENCY: Department of Energy, Office of Science.

ACTION: Notice of open meeting.

SUMMARY: This notice announces a meeting of the Advanced Scientific Computing Advisory Committee (ASCAC). Federal Advisory Committee Act (Pub. L. 92-463, 86 Stat. 770) requires that public notice of these meetings be announced in the Federal Register.

DATES: Tuesday, August 5, 2008, 9 a.m. to 3:30 p.m.; Wednesday, August 6, 2008, 9 a.m. to 12 p.m.

ADDRESSES: Doubletree Hotel & Executive Meeting Center, Berkeley Marina, 200 Marina Boulevard, Berkeley, California, United States 94710.

FOR FURTHER INFORMATION CONTACT: Melea Baker, Office of Advanced Scientific Computing Research; SC-21/Germantown Building; U.S. Department of Energy; 1000 Independence Avenue, SW.; Washington, DC 20585-1290; Telephone (301) 903-7486, (E-mail: Melea.Baker@science.doe.gov).

SUPPLEMENTARY INFORMATION: Purpose of the Meeting: The purpose of this meeting is to provide advice and guidance with respect to the advanced scientific computing research program.

Tentative Agenda: Agenda will include discussions of the following:

Tuesday, August 5, 2008

View from Washington and Germantown

Math for Analysis of Petascale Data

Report Discussion and Vote—Committee of Visitors on INCITE

ESnet Update

Report Discussion—ASCR Program Balance

Climate Computing Concept

Tour of Lawrence Berkeley National Laboratory

Tour open to all interested U.S. citizens via pre-registration

Public Comment

Wednesday, August 6, 2008

Report Discussion—Fusion Simulation Project

Report Discussion—Joint Panel on GTL

Bios Issues

Public Comment

Public Participation: The meeting is open to the public. If you would like to file a written statement with the Committee, you may do so either before or after the meeting. If you would like to make oral statements regarding any of the items on the agenda or participate in the tour, you should contact Melea Baker via FAX at 301-903-4846 or via e-mail (Melea.Baker@science.doe.gov). You must make your request for an oral statement at least 5 business days prior to the meeting. Reasonable provision will be made to include the scheduled oral statements on the agenda. The Chairperson of the Committee will conduct the meeting to facilitate the orderly conduct of business. Public comment will follow the 10-minute rule. This notice is being published less than 15 days before the date of the meeting due to programmatic issues.

Minutes: The minutes of this meeting will be available for public review and copying within 30 days at the Freedom of Information Public Reading Room; 1E-190, Forrestal Building; 1000 Independence Avenue, SW.; Washington, DC 20585; between 9 a.m. and 4 p.m., Monday through Friday, except holidays.

Issued in Washington, DC on July 24, 2008.
Rachel Samuel,
Deputy Committee, Management Officer.

[FR Doc. E8-17479 Filed 7-29-08; 8:45 am]

BILLING CODE 6450-01-P